DEPARTMENT OF ENERGY

Federal Energy Regulatory Commission

[Docket No. EL04-39-000, et al.]

City of Riverside, CA et al.; Electric Rate and Corporate Filings

December 29, 2004.

The following filings have been made with the Commission. The filings are listed in ascending order within each docket classification.

1. City of Riverside, California

[Docket No. EL04-39-000]

Take notice that on December 18, 2003, the City of Riverside, California (Riverside) submitted for filing changes to its Transmission Revenue Balancing Account Adjustment (TRBAA) and to Appendix I of its Transmission Owner (TO) Tariff. Riverside requests a January 1, 2004 effective date for its filing. Riverside further requests that the Commission waive any fees for the filing of its revised TRBAA.

Comment Date: January 8, 2004.

2. City of Anaheim, California

[Docket No. EL04-40-000]

Take notice that on December 18, 2003, the City of Anaheim, California (Anaheim) submitted for filing changes to its Transmission Revenue Balancing Account Adjustment (TRBAA) and to Appendix I of its Transmission Owner (TO) Tariff. Anaheim requests a January 1, 2004 effective date for its filing. Anaheim further requests that the Commission waive any fees for the filing of its revised TRBAA.

Comment Date: January 8, 2004.

3. Bonneville Power Administration

[Docket No. EL04-44-000]

Take notice that on December 23, 2003, the Bonneville Power Administration, a federal power marketing administration within the U.S. Department of Energy, filed a Petition for Declaratory Order requesting a finding that, under the circumstances described in the Petition, the passive participants in a lease financing of certain electric transmission facilities will not be considered public utilities under Section 201 of the Federal Power Act.

Comment Date: January 8, 2004.

4. Cordova Energy Company LLC

[Docket No. ER99-2156-002]

Take notice that on December 17, 2003, Cordova Energy Company LLC submitted its First Revised FERC Electric Rate Schedule No. 1 in compliance with the Commission's June 24, 2002 Letter Order in Docket No. ER99-2156-001.

Comment Date: January 7, 2004.

5. Outback Power Marketing Inc.

[Docket No. ER01-297-002]

Take notice that on December 12, 2003, Outback Power Marketing Inc. (Outback) tendered for filing: (i) An updated market power analysis in compliance with the Federal Energy Regulatory Commission's (Commission) order authorizing Outback to engage in wholesale sales of electric power at market based rates in Docket No. ER01-297-000; and (ii) an amendment to its market-based rate tariff to adopt the Commission's new Market Behavior Rules issued in Docket Nos. EL01-118-000 and EL01-118-001.

Comment Date: January 14, 2003.

6. California Power Exchange Corporation

[Docket No. ER03-830-001]

Take notice that on December 17, 2003, the California Power Exchange Corporation (CalPX) submitted a filing to comply with the Commission's December 5, 2003 Order, 105 FERC ¶61,273.

Comment Date: January 7, 2004.

7. ANC Utility Services, Inc.

BP Energy Company, Brownsville Power I, L.L.C., Caledonia Power I, L.L.C. CAM Energy Products, LP, Cargrill Power Markets, LLC, Chanarambie Power Partners, LLC, Chehalis Power Generating Limited Partnership, Choctaw Generation Limited Partnership, Exelon Generation Company, L.L.C., Flying Cloud LLC, FPL Energy North Dakota Wind II, LLC, KeySpan-Glenwood Energy Center LLC, KeySpan-Port Jefferson LLC, KeySpan-Ravenswood LLC, Kiowa Power Partners, LLC, LMP Capital, LLC, Morgan Stanley Capital Group Inc., Morgan Stanley Capital Group Inc., Northern Indiana Public Service Company, Occidental Energy Marketing, Inc., Occidental Power Marketing, L.P., Occidental Power Services, Inc., PB Financial Services, Inc., San Diego Gas & Electric Company, Solaro Energy Marketing Corporation, Tampa Electric Company, Tenaska Frontier Partners, Ltd., Tenaska Gateway Partners, L.P., Tenaska Georgia Partners, L.P., Tenaska-Oxy Power Services, L.P., Tensaka Virginia Partners, L.P., Tractebel Energy Marketing, Inc., Trigen-Syracuse Energy Corporation, Virginia Electric and Power Company,

[Docket Nos. ER03-965-001, ER00-3614-003, ER01-826-002, ER01-282-001, ER03-736-002, ER02-2551-001, ER03-1340-002, ER03-717-001, ER98-377-002, ER00-3251-006, ER03-932-002, ER03-1105-001, ER02-1470-001, ER02-1573-001, ER99-2387-002, ER02-2509-001, ER03-653-002, ER04-310-001, ER03-168-001, ER00-2173-001, ER02-799-001, ER99-3665-003, ER02-1947-005, ER04-47-001,ER99-3426-004, ER03-752-002, ER99-2342-002, ER98-1767-006, ER99-2992-002, ER99-3165-002, ER02-2550-001, ER02-1942-001, ER94-142-028, ER00-2603-002, and ER97-3561-003]

Take notice that on December 17, 18, 19, and 22, 2003, the above referenced companies submitted a compliance filing in response to the Commission's November 17, 2003 Order Amending Market-based Rate Tariffs and Authorizations, in Docket No. EL01-118-000 and 001.

Comment Date: January 14, 2004.

8. Xcel Energy Services Inc., Northern States Power Company

[Docket No. ER03-1278-002]

Take notice that on December 16, 2003, Xcel Energy Services Inc. (XES) on behalf of Northern States Power Company (NSP) submitted a refund report. The refund report was required by the Commission's December 4, 2003 Letter Order in Docket No. ER03-1278-000 and ER03-1278-001.

Comment Date: January 6, 2004.

9. California Independent System Operator Corp.

[Docket No. ER03-1360-001]

Take notice that on December 17, 2003, the California Independent System Operator Corp. (ISO) submitted a compliance filing pursuant to the Commission's Letter Order issued November 14, 2003 in ER03-1360-000.

Comment Date: January 7, 2004.

10. Southern Company Services, Inc.

[Docket No. ER03-1381-002]

Take notice that on December 18, 2003, Southern Company Services, Inc., as agent for Georgia Power Company, submitted to the Federal Energy Regulatory Commission a compliance filing in accordance with the Commission's November 18, 2003 Order in Southern Company Services, Inc., 105 FERC ¶61,221 (2003).

Comment Date: January 8, 2004.

11. Xcel Energy Services Inc., Northern States Power Company

[Docket No. ER04-93-001]

Take notice that on December 16, 2003, Xcel Energy Services Inc. (XES) on behalf of Northern States Power Company (NSP) submitted a refund report required by the Commission's December 5, 2003 Letter Order in Docket No. ER04-93-000.

Comment Date: January 6, 2004.

12. Michigan Electric Transmission Company, LLC

[Docket No. ER04-139-001]

Take notice that on December 19, 2003, Michigan Electric Transmission Company, LLC (METC) submitted a notice of withdrawal of proposed amendments to the following agreements filed in Docket No. ER04-139-000 on October 31, 2003: (1) Project I Transmission Ownership and Operating Agreement Between Consumers Power Company and Michigan South Central Power Agency, dated November 20, 1980; (2) Campbell Unit No. 3 Transmission Ownership and Operating Agreement Between Consumers Power Company and Michigan Public Power Agency, dated October 1, 1979; and (3) Belle River Transmission Ownership and Operating Agreement Between Consumers Power Company and Michigan Public Power Agency, dated December 1, 1982. METC states it has reached an agreement regarding the proposed amendments with both Michigan South Central Power Agency and Michigan Public Power Agency and therefore filed a notice to withdraw the amendments filed with regard to those entities.

Comment Date: January 9, 2004.

13. Xcel Energy Services Inc., Northern States Power Company

[Docket No. ER04-146-001]

Take notice that on December 16, 2003, Xcel Energy Services Inc. (XES) on behalf of Northern States Power Company (NSP) submitted a refund report required by the Commission's December 4, 2003 Letter Order in the Docket No. ER04-146-000.

Comment Date: January 6, 2004.

14. Dominion Nuclear Marketing I, Inc. and Dominion Nuclear Marketing II, Inc.

[Docket Nos. ER04-189-001]

Take notice that on December 16, 2003, Dominion Nuclear Marketing I, Inc. (DNM I) and Dominion Nuclear Marketing II, Inc. (DNM II) filed an amended Notice of Cancellation to include canceled sheets in compliance with the requirements of Order No. 614, to cancel DNM I and DNM II's market-based rate schedules.

Comment Date: January 6, 2004.

15. Nordic Marketing of New Jersey, L.L.C.

[Docket No. ER04-293-000]

Take notice that on December 16, 2003, Nordic Marketing of New Jersey, L.L.C. petitioned the Commission to: (1) Accept for filing its Rate Schedule FERC No. 1, which will permit it to sell electric energy and capacity to wholesale customers at market-based rates and permit transmission capacity reassignment; (2) waive 60 days' notice and allow that rate schedule to become effective no later than February 14, 2004; and (3) grant such other waivers and blanket authorizations as have been granted to other power marketers.

Nordic Marketing of New Jersey states that it intends to engage in wholesale electric power and energy sales as a marketer, principally by reselling purchased power that it obtains for potential unbundled competitive sale at retail but which turns out to exceed its needs for that use. Nordic Marketing of New Jersey further states that it nor any of its affiliates owns or controls any currently operating or operable generation or transmission facilities, or has a franchised service area for the sale of electricity to captive customers.

Comment Date: January 6, 2004.

16. Pacific Gas and Electric Company

[Docket No. ER04-295-000]

Take notice that on December 17, 2003, Pacific Gas and Electric Company (PG&E) tendered for filing an annual update filing including revisions to its Reliability Must Run Service Agreements (RMR Agreements) with the California Independent System Operator Corporation (ISO) for Helms Power Plant, PG&E First Revised Rate Schedule FERC No. 207, San Joaquin Power Plant, PG&E First Revised Rate Schedule FERC No. 211 and Kings River Watershed, PG&E Rate Schedule FERC No. 226. PG& E states that this filing revises portions of the Rate Schedules to adjust the values for Contract Service Limits, Owner's Repair Cost Obligation and Prepaid Start-up information. PG&E further states that the changes are expressly required and/or authorized under the RMR Agreements.

PG&E states that copies of this filing have been served upon the ISO, the California Electricity Oversight Board, and the California Public Utilities Commission.

Comment Date: January 7, 2004.

17. Dynegy Midwest Generation, Inc.

[Docket No. ER04-296-000]

Take notice that on December 17, 2003, Dynegy Midwest Generation, Inc. (DMG) submitted for filing an amendment to section 2(b) of DMG's Rate Schedule FERC No. 2. DMG states that this amendment, which changes the notice period for the termination of the Primary Term of the Rate Schedule from 12 months to 9 months, is necessary to allow the parties to evaluate more fully their options after the current termination date of December 31, 2004. DMG requests that the amendment be made effective as of December 30, 2003, which is the day before the date by which the parties currently would have to provide a notice of termination.

Comment Date: January 7, 2004.

18. PJM Interconnection, L.L.C.

[Docket No. ER04-297-000]

Take notice that on December 17, 2003, PJM Interconnection, L.L.C. (PJM) submitted for filing an executed Interconnection Service Agreement (ISA) among PJM, Conectiv Energy Supply, Inc., and Delmarva Power & Light Company d/b/a/ Conectiv Power Delivery and a notice of cancellation for an interim ISA that has terminated.

PJM request a waiver of the Commission's 60-day notice requirement to permit a November 17, 2003 effective date for the ISA. PJM also states that copies of this filing were served upon the parties to the agreements and the state regulatory commissions within the PJM region.

Comment Date: January 7, 2004.

19. Howard Energy Marketing, Inc.

[Docket No. ER04-299-000]

Take notice that on December 17, 2003, Howard Energy Marketing, Inc. tendered for filing a Notice of Cancellation of its market-based rate authority in Docket No. ER95-252-000.

Comment Date: January 7, 2004.

20. Southern California Edison Company

[Docket No. ER04-300-000]

Take notice that on December 17, 2003, Southern California Edison Company (SCE) tendered for filing a Letter Agreement between SCE and the City of Corona, California (Corona). SCE states that the purpose of the Letter Agreement is to provide an interim arrangement pursuant to which SCE will commence the engineering, design, obtaining the approval of the California Public Utilities Commission, procurement of equipment and material, and construction of Direct Assignment Facilities, Distribution System Upgrades and other system facilities, modifications and upgrades needed to effectuate interconnection and provide the requested Distribution Service for Corona's proposed Clearwater Cogeneration Project.

SCE states that copies of this filing were served upon the Public Utilities Commission of the State of California and Corona.

Comment Date: January 7, 2004.

21. New England Power Company

[Docket No. ER04-301-000]

Take notice that on December 17, 2003, the New England Power Company (NEP) tendered for filing with the Commission a Notice of Cancellation of the Quebec Interconnection Transfer Agreement between NEP and USGen New England, Inc. (USGenNE) dated September 1, 1998 (Transfer Agreement) and filed with the Commission on August 31, 1998 in Docket No. ER98-4409-000.

NEP requests that its Notice of Cancellation be made effective as of April 2, 2004. NEP states that USGenNE consents to the termination as of that date.

NEP states that copies of this filing have been served upon USGenNE, ISO New England, Inc., and the state utility commissions of Massachusetts, Rhode Island and New Hampshire.

Comment Date: January 7, 2004.

22. PJM Interconnection, L.L.C.

[Docket No. ER04-302-000]

Take notice that on December 18, 2003, PJM Interconnection, L.L.C. (PJM), submitted for filing an executed interconnection service agreement (ISA) among PJM, U.S. General Services Administration, White Oak Federal Research Center, White Oak, and Potomac Electric Power Company.

PJM requests a waiver of the Commission's 60-day notice requirement to permit a November 20, 2003 effective date for the ISA.

PJM states that copies of the filing were served upon the parties to the agreements and the state regulatory commissions within the PJM region.

Comment Date: January 8, 2004.

23. San Diego Gas & Electric Company

[Docket No. ER04-303-000]

Take notice that on December 18, 2003, San Diego Gas & Electric Company (SDG&E) tendered for filing its revised Wholesale Distribution Open Access Tariff, FERC Electric Tariff, First Revised Volume No. 6 (WDT), to reflect proposed revisions to the terms and conditions of wholesale customer service and to reflect editorial changes to enhance the clarity of the WDT Tariff.

SDG&E requests an effective date of February 17, 2004 for the WDT, in conformance with the sixty-day notice requirement.

SDG&E states that copies of the filing have been served on the California Public Utilities Commission, the California Independent System Operator Corporation, and all persons on the Secretary's official service list in Docket No. ER97-4235-000.

Comment Date: January 8, 2004.

24. Southern Company Services, Inc.

[Docket No. ER04-304-000]

Take notice that on December 18, 2003, Southern Company Services, Inc., on behalf of Alabama Power Company (APC), filed the Interconnection Agreement (Agreement) between Mobile Energy Services, L.L.C. and APC. An effective date of November 18, 2003 has been requested.

Comment Date: January 8, 2004.

25. Sierra Pacific Power Company

[Docket No. ER04-305-000]

Take notice that on December 18, 2003, Sierra Pacific Power Company (Sierra) tendered for filing an executed Interconnection and Operation Agreement between Sierra and Newmont USA Limited d/b/a Newmont Mining Corporation. Sierra requests an effective date of December 5, 2003.

Comment Date: January 8, 2004.

26. Yuba City Energy Center, LLC

[Docket No. ER04-306-000]

Take notice that on December 18, 2003, Yuba City Energy Center, LLC (Yuba City) filed a Notice of Cancellation of its Rate Schedule FERC No. 1. Yuba City requests an effective date of December 19, 2003.

Comment Date: January 8, 2004.

27. Lambie Energy Center, LLC

[Docket No. ER04-307-000]

Take notice that on December 18, 2003, Lambie Energy Center, LLC (Lambie) filed a Notice of Cancellation of its Rate Schedule FERC No. 1. Lambie requests an effective date of December 19, 2003.

Comment Date: January 8, 2004.

28. Cabrillo Power I LLC and Cabrillo Power II LLC

[Docket No. ER04-308-000]

Take notice that on December 17, 2003, Cabrillo Power I LLC and Cabrillo Power II LLC (Cabrillo I and II), tendered for filing with the Federal Energy Regulatory Commission their annual informational filing and related revisions to their Reliability Must-Run Service Agreements with the California Independent System Operator Corporation.

Cabrillo I and II state that a copy of the filing has been served on the California Independent System Operator Corporation, San Diego Gas & Electric Company, the California Electricity Oversight Board, and the California Public Utilities Commission.

Comment Date: January 7, 2004.

29. New York Independent System Operator, Inc.

[Docket No. ER04-309-000]

Take notice that on December 16, 2003, the New York Independent System Operator, Inc. (NYISO), filed proposed revisions to the Independent System Operator Agreement. NYISO states that the proposed revisions would amend the Independent System Operator Agreement to specify that ISO-designated holidays, rather than legal holidays, be excluded from the computation of the five-day meeting notice periods for announcements of upcoming Management Committee, Business Issues Committee, and Operating Committee meetings.

The NYISO states it has served a copy of this filing to all parties that have executed Service Agreements under the NYISO's OATT or Services Tariff, the New York State Public Services Commission and to the electric utility regulatory agencies in New Jersey and Pennsylvania.

Comment Date: January 6, 2004.

30. Feather River Energy Center, LLC

[Docket No. ER04-311-000]

Take notice that on December 18, 2003, Feather River Energy Center, LLC (Feather River) filed a Notice of Cancellation of its Rate Schedule FERC No. 1. Feather River requests an effective date of December 19, 2003.

Comment Date: January 8, 2004.

31. King City Energy Center, LLC

[Docket No. ER04-312-000]

Take notice that on December 18, 2003, King City Energy Center, LLC (King City) filed a Notice of Cancellation of its Rate Schedule FERC No. 1. King City requests an effective date of December 19, 2003.

Comment Date: January 8, 2004.

32. Riverview Energy Center, LLC

[Docket No. ER04-313-000]

Take notice that on December 18, 2003, Riverview Energy Center, LLC (Riverview) filed a Notice of Cancellation of its Rate Schedule FERC No. 1. Riverview requests an effective date of December 19, 2003.

Comment Date: January 8, 2004.

33. Wolfskill Energy Center, LLC

[Docket No. ER04-314-000]

Take notice that on December 18, 2003, Wolfskill Energy Center, LLC (Wolfskill) filed a Notice of Cancellation of its Rate Schedule FERC No. 1. Wolfskill requests an effective date of December 19, 2003.

Comment Date: January 8, 2004.

Standard Paragraph

Any person desiring to intervene or to protest this filing should file with the Federal Energy Regulatory Commission, 888 First Street, N.E., Washington, D.C. 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1 Filed 1-8-04; 8:45 am]

BILLING CODE 6717-01-P